DEPARTMENT OF THE INTERIOR

Bureau of Ocean Energy Management

[Docket No. BOEM-2012-0090]

Commercial Wind Leasing and Site Assessment Activities on the Atlantic Outer Continental Shelf (OCS) Offshore North Carolina; Reopening of Comment Period

AGENCY: Bureau of Ocean Energy Management (BOEM), Interior.

ACTION: Notice of Intent to Prepare an Environmental Assessment; Reopening of Comment Period.

SUMMARY: BOEM is reopening the comment period announced in the Notice of Intent to Prepare an Environmental Assessment (EA) for Commercial Wind Leasing and Site Assessment Activities on the OCS Offshore North Carolina.

FOR FURTHER INFORMATION CONTACT: Michelle Morin, BOEM Office of Renewable Energy Programs, 381 Elden Street, HM 1328, Herndon, Virginia 20170, (703) 787-1340 or Michelle.Morin@boem.gov.

SUPPLEMENTARY INFORMATION: Background: On December 13, 2012, BOEM published the Notice in the Federal Register (77 FR 74218) inviting Federal, state, local government agencies, tribal governments, and other interested parties to send their written comments regarding environmental issues and the identification of reasonable alternatives related to the proposed action (i.e., the issuance of renewable energy leases within all or some of the Call Areas identified offshore North Carolina, and the approval of site assessment activities on those leases). The Notice requested submissions by January 28, 2013.

Because of requests received from the public, we are hereby reopening the comment period until March 7, 2013. As stated in the Notice, BOEM will use the responses to identify alternatives to be considered in the EA, as well as environmental and/or socioeconomic issues to be analyzed. Please refer to the Notice published in the Federal Register on December 13, 2012, for further information. The Notice and a map of the Call Areas identified offshore North Carolina can be found at: http://www.boem.gov/Renewable-Energy-Program/State-Activities/North-Carolina.aspx.

Comments: You may submit your comments by one of two methods:

1. Federal eRulemaking Portal: http://www.regulations.gov. In the entry entitled “Enter Keyword or ID,” enter BOEM-2012-0090, and then click “search.” Follow the instructions to submit public comments and view supporting and related materials for this notice.

2. U.S. Postal Service or other delivery service. Send your comments and information to the following address: Bureau of Ocean Energy Management, Office of Renewable Energy Programs, 381 Elden Street, HM 1328, Herndon, Virginia 20170.

Comments should be submitted no later than March 7, 2013.

Comments already submitted in response to the Notice do not need to be resubmitted.

Dated: January 29, 2013.
Walter D. Cruickshank,
Deputy Director, Bureau of Ocean Energy Management.

[FR Doc. 2013-02409 Filed 2-4-13; 8:45 am]

BILLING CODE 4310-MR-P